DEPARTMENT OF ENERGY

Federal Energy Regulatory Commission

[Docket No. RP04-179-002]

National Fuel Gas Supply Corporation; Notice of Amendment to Compliance Filing

May 7, 2004.

Take notice that on April 29, 2004, National Fuel Gas Supply Corporation (National Fuel) tendered for filing an amendment to its compliance filing filed April 9, 2004, in Docket No. RP04-179-000.

National Fuel states that the instant filing is made to amend Service Agreement Nos. F10702 and F10703 between National Fuel and Fortuna Energy, Inc (Fortuna). This amendment changes the commencement date of these two service agreements from April 15, 2004 to May 1, 2004, at the request of the shipper. No changes have been made to Fourth Revised Sheet No. 478 or Service Agreement Nos. F10704 and F10705, as filed on April 9, 2004.

National Fuel states that copies of this filing were served upon its customers and interested state commissions.

Any person desiring to protest said filing should file a protest with the Federal Energy Regulatory Commission, 888 first Street, NE., Washington, DC 20426, in accordance with Section 385.211 of the Commission's Rules and Regulations. All such protests must be filed in accordance with Section 154.210 of the Commission's Regulations. Protests will be considered by the Commission in determining the appropriate action to be taken, but will not serve to make protestants parties to the proceedings. This filing is available for review at the Commission in the Public Reference Room or may be viewed on the Commission's Web site at http://www.ferc.gov using the eLibrary link. Enter the docket number excluding the last three digits in the Docket number field to access the document. For assistance, please contact FERC Online Support at FERCOnlineSupport@ferc.gov or toll-free at (866) 208-3676, or TTY, contact (202) 502-8659. The Commission strongly encourages electronic filings. See, 18 CFR 385.2001(a)(1)(iii) and the instructions on the Commission's Web site under the e-Filing link.

Magalie R. Salas,
Secretary.

[FR Doc. E4-1149 Filed 5-12-04; 8:45 am]

BILLING CODE 6717-01-P